Memorandum of September 23, 2010

Delegation of Certain Functions and Authorities Under the Comprehensive Iran Sanctions, Accountability, and Divestment Act of 2010

Memorandum for the Secretary of State[,] the Secretary of the Treasury[,] the Attorney General[,] the Secretary of Commerce[,] United States Trade Representative[,] Chairman of the Board of Governors of the Federal Reserve System[, and] President of the Export-Import Bank of the United States

By the authority vested in me as President by the Constitution and the laws of the United States of America, including section 301 of title 3, United States Code, I hereby order as follows:

I hereby delegate to the Secretary of State the functions vested in the President by sections 4(c), 5(a), 5(b), 5(c), 5(f), 6(a)(1), 6(a)(2), 6(b)(5), and 9(c) of the Iran Sanctions Act of 1996, as amended (Public Law 104-172, 50 U.S.C. 1701 note, as amended most recently by the Comprehensive Iran Sanctions, Accountability, and Divestment Act of 2010 (CISADA) (Public Law 111-195)) (the “Iran Sanctions Act”), such functions to be exercised in consultation with the Secretaries of the Treasury and Commerce and the United States Trade Representative, and with the President of the Export-Import Bank and the Chairman of the Board of the Federal Reserve System and other agencies as appropriate.

I hereby delegate to the Secretary of State the functions vested in the President by sections 4(a), 4(b), 4(e), 5(d), 5(e), 9(a), 9(b), and 10 of the Iran Sanctions Act.

I hereby delegate to the Secretary of the Treasury, in consultation with the Secretary of State, the functions vested in the President by sections 6(a)(6), 6(a)(7), and 6(a)(8) of the Iran Sanctions Act, if the sanctions that those provisions authorize have been selected pursuant to section 5(a) of the Iran Sanctions Act in accordance with the terms of this memorandum.

The Presidential Memorandum of November 21, 1996 (Delegation of Responsibilities Under the Iran and Libya Sanctions Act of 1996), shall remain in effect with regard to implementation under section 102(h)(2) of CISADA of the provisions of the Iran Sanctions Act in effect on the day before the date of enactment of CISADA.

I hereby delegate functions vested in the President by CISADA, as follows:

•

section 102(h)(5) to the Secretary of State;

•

section 103(b)(3) to the Secretary of State and the Secretary of the Treasury, consistent with Executive Orders 13224 and 13382, as amended, and any other relevant Executive Orders;

•

section 103(d)(1) to the Secretary of the Treasury, in consultation with the Secretary of State and, as appropriate, other agencies;

•

section 103(d)(2)(A) to the Secretary of the Treasury, in consultation with the Secretary of State;

•

section 103(d)(2)(B) to the Secretary of State, in consultation with the Secretary of the Treasury and the Secretary of Commerce;

•

section 106 to the Secretary of State, in consultation with the Secretary of Commerce;

•

section 110 to the Secretary of State;

•

section 111(a) to the Secretary of State, in consultation with the Secretary of the Treasury and the President of the Export-Import Bank;

•

section 111(b) to the President of the Export Import Bank, in consultation with the Secretary of State and the Secretary of the Treasury;

•

section 115 to the Secretary of State, in consultation with the Attorney General and the Secretary of the Treasury;

•

sections 303(a) and 303(b) to the Secretary of State, in consultation with the Secretary of Commerce;

•

section 303(c) to the Secretary of Commerce with regard to exports governed by the Export Administration Regulations, and to the Secretary of State with regard to exports governed by the International Traffic in Arms Regulations;

•

section 303(d) to the Secretary of State, in consultation with the Secretary of Commerce;

•

section 303(e) to the Secretary of State, in consultation with the Secretary of Commerce;

•

section 304 to the Secretary of State, in consultation with the Secretary of Commerce;

•

section 401(b) to the Secretary of State, in consultation with the Secretary of the Treasury and, as appropriate, other agencies, with respect to the waiver of sanctions under section 103(b); to the Secretary of State, in consultation with the Secretary of Commerce, with respect to the waiver of the application of the prohibition under section 106(a); and to the Secretary of State, in consultation with the Secretary of Commerce, with respect to the waiver of the imposition of the licensing requirement under section 303(c).

Any reference in this memorandum to provisions of any Act related to the subject of this memorandum shall be deemed to include references to any hereafter-enacted provision of law that is the same or substantially the same as such provisions.

The Secretary of State is authorized and directed to publish this memorandum in the Federal Register.

THE WHITE HOUSE,

WASHINGTON, September 23, 2010

[FR Doc. 2010-27679

Filed 10-29-10; 8:45 am]

Billing code 4710-10-P